ENVIRONMENTAL PROTECTION AGENCY

[ER-FRL-6630-4]

Environmental Impact Statements; Notice of Availability

Responsible Agency: Office of Federal Activities, General Information (202) 564-7167 or www.epa.gov/oeca/ofa.

Weekly receipt of Environmental Impact Statements

Filed June 10, 2002, through June 14, 2002,

Pursuant to 40 CFR 1506.9.

EIS No. 020235, FINAL EIS, IBR, NM, Elephant Butte and Caballo Reservoirs, Resource Management Plan (RMP), Implementation, Sierra and Socorro Counties, NM, Wait Period Ends: July 22, 2002, Contact: Clay McDermeit (505) 248-5391.

EIS No. 020236, DRAFT EIS, IBR, NM, City of Albuquerque Drinking Water Project, To Provide a Sustainable Water Supply for Albuquerque through Direct and Full Consumptive Use of the City's San Juan-Chama (SJC) Water for Potable Purposes, Funding, Right-of-Way and COE Section 404 Permits, City of Albuquerque, NM , Comment Period Ends: August 13, 2002, Contact: Lori Robertson (505) 248-5326. This document is available on the Internet at: http://www.saj.usace.army.mil/permit/occidental.htm.sic¿.

EIS No. 020237, DRAFT EIS, BLM, OR, Cascade-Siskiyou National Monument (CSNM) Resource Management Plan, Implementation, Klamath and Rouge River Basins, Jackson County, OR, Comment Period Ends: September 20, 2002, Contact: Richard Drel (541) 618-2200. This document is available on the Internet at: www.ca.blm.gov/palmsprings.

EIS No. 020238, DRAFT EIS, AFS, ID, Sixshooter Project, to Reduce the Threats of Insect Infestation and Wildfire, Sixmile and West Fork Creek, Boise National Forest, Emmett Ranger District, Gem County, ID, Comment Period Ends: August 05, 2002, Contact: Jeffery Clark (208) 365-7000.

EIS No. 020239, DRAFT EIS, COE, NJ, South River, Raritan River Basin Hurricane and Storm Damage Reduction and Ecosystem Restoration, Implementation, Draft Integrated Feasibility Report, Middlesex County, NJ, Comment Period Ends: August 05, 2002, Contact: Mark H. Bulas (212) 264-4663.

EIS No. 020240, FINAL EIS, APH, PROGRAMMATIC—EIS Rangeland Grasshopper and Mormon Cricket Suppression Program, Authorization, Funding and Implementation in 17 Western States, AZ, CA, CO, ID, KS, MT, NB, NV, NM, ND, OK, OR, SD, TX, UT, WA and WY, Wait Period Ends: July 22, 2002, Contact: Charles Brown (301) 734-8963. This document is available on the Internet at: http://www.aphis.usda.gov/ppd/es/ppqdocs.htm1.

EIS No. 020241, FINAL EIS, NOA, IN, Indiana Lake Michigan Coastal Program Document, Federal Approval and Implementation, Coastal Zone Management, Lake, Porter, and LaPorte Counties, IN, Wait Period Ends: July 22, 2002, Contact: Diana Olinger (301) 713-3155.

EIS No. 020242, DRAFT EIS, AFS, MO, Rams Horn Project, To Accomplish the Direction and Desired Conditions Identified in the Mark Twain National Forest, Land and Resource Management Plan, Houston/Rolla/Creek Ranger District, Phelps and Pulaski Counties, MO, Comment Period Ends: August 05, 2002, Contact: Mark Hamel (417) 967-4194. This document is available on the Internet at: http://www.fs.fed.us/r9/marktwain/publications.

EIS No. 020244, FINAL EIS, GSA, CA, Los Angeles Federal Building—U. S. Courthouse, Construction of a New Courthouse in the Civic Center, City of Los Angeles, Los Angeles County, CA , Wait Period Ends: July 22, 2002, Contact: Javad Soltani (415) 522-3493.

EIS No. 020245, DRAFT EIS, MMS, AK, Beaufort Sea Planning Area Multiples Sale 186, 195 and 202 Oil and Gas Lease Sales, Alaska Outer Continental Shelf, Offshore Marine Environment, Beaufort Sea Coastal Plain, and the North Slope Borough of Alaska, Comment Period Ends: September 20, 2002, Contact: Dr. George Valiulis (703) 787-1662.

EIS No. 020246, FINAL EIS, BLM, AZ, Las Cienegas Resource Management Plan, Implementation, Las Cienegas National Conservation Area (NCA) and Sonoita Valley Acquisition Planning District, AZ, Wait Period Ends: July 22, 2002, Contact: Karen Simms (520) 258-7210.

EIS No. 020247, DRAFT EIS, AFS, CA, Brown Darby Fuel Reduction Project, Proposal for a Combination of the Salvage Harvesting of Trees Killed and other Fuels Management Activities, Stanislaus National Forest, Calaveras Ranger District, Calaveras and Tuolumne Counties, CA, Comment Period Ends: August 05, 2002, Contact: Kathy Aldrich (209) 795-1381. This document is available on the Internet at: www.is.ch2m.com/iidweb.

EIS No. 020248, DRAFT EIS, COE, CA, Bolinas Lagoon Ecosystem Restoration, Proposal to Removal up to 1.5 Million Cubic Yard of Sediment from the bottom of the Lagoon to Allow Restoration of Tidal Movement and Eventual Restoration of Tidal Habitat, Marin County, CA, Comment Period Ends: August 05, 2002, Contact: Roger Golden (415) 977-8703.

EIS No. 020249, DRAFT EIS, NPS, MO, Wilson's Creek National Battlefield General Management Plan, Implementation, To Commemorate the Battle of Wilson's Creek and to Preserve the Associated Battlefield, Greene and Christian Counties, MO, Comment Period Ends: August 05, 2002, Contact: Dick Lusardi (417) 732-2662.

EIS No. 020250, FINAL EIS, IBR, CA, American River Pump Station Project, Providing Placer County Water Agency (PCWA) with the Year-Round Access to its Middle Fork Project (MFP) Water Entitlements from the American River, Placer County, CA, Wait Period Ends: July 22, 2002, Contact: Roderick Hall (916) 989-7279.

Dated: June 18, 2002.
B. Katherine Biggs,
Associate Director, NEPA Compliance Division, Office of Federal Activities.

[FR Doc. 02-15726 Filed 6-20-02; 8:45 am]

BILLING CODE 6560-50-P